Executive Order 14358 of November 4, 2025

Modifying Reciprocal Tariff Rates Consistent With the Economic and Trade Arrangement Between the United States and the People's Republic of China

By the authority vested in me as President by the Constitution and the laws of the United States of America, including the International Emergency Economic Powers Act (50 U.S.C. 1701 et seq.) (IEEPA), the National Emergencies Act (50 U.S.C. 1601 et seq.), section 604 of the Trade Act of 1974, as amended (19 U.S.C. 2483), and section 301 of title 3, United States Code, I hereby determine and order:

Section 1. Background. In Executive Order 14257 of April 2, 2025 (Regulating Imports With a Reciprocal Tariff To Rectify Trade Practices That Contribute to Large and Persistent Annual United States Goods Trade Deficits), I found that conditions reflected in large and persistent annual U.S. goods trade deficits, including the consequences of those deficits, constitute an unusual and extraordinary threat to the national security and economy of the United States that has its source in whole or substantial part outside the United States. I declared a national emergency with respect to that threat, and to deal with that threat, I imposed additional ad valorem duties that I deemed necessary and appropriate.

In Executive Order 14259 of April 8, 2025 (Amendment to Reciprocal Tariffs and Updated Duties as Applied to Low-Value Imports From the People's Republic of China), and Executive Order 14266 of April 9, 2025 (Modifying Reciprocal Tariff Rates To Reflect Trading Partner Retaliation and Alignment), I raised the applicable ad valorem duty rate for imports of the People's Republic of China (PRC) established in Executive Order 14257, in recognition of the PRC's retaliation against the United States in response to the actions taken to address the emergency declared in Executive Order 14257.

Subsequently, the United States entered into discussions with the PRC to address the lack of trade reciprocity in our economic relationship and the United States' resulting national and economic security concerns. Accordingly, in Executive Order 14298 of May 12, 2025 (Modifying Reciprocal Tariff Rates To Reflect Discussions With the People's Republic of China), and Executive Order 14334 of August 11, 2025 (Further Modifying Reciprocal Tariff Rates To Reflect Ongoing Discussions With the People's Republic of China), I determined that it was necessary and appropriate to address the emergency declared in Executive Order 14257 by suspending application of the heightened ad valorem duties imposed on the PRC under Executive Order 14257, as amended, and to instead impose on articles of the PRC an additional ad valorem rate of duty of 10 percent. During the suspension, the United States continued to have discussions with the PRC to address the lack of trade reciprocity in the United States' economic relationship with the PRC and the United States' resulting national and economic security concerns.

Following my meeting with President Xi Jinping of the People's Republic of China on October 30, 2025, in the Republic of Korea, the United States and the PRC reached a historic and monumental deal on economic and trade relations (Kuala Lumpur Joint Arrangement or Arrangement). Under the Arrangement, the PRC has committed to, among other things, postpone and effectively eliminate the PRC's current and proposed coercive global export controls on rare earth elements and other critical minerals, and address Chinese retaliation against United States semiconductor manufacturers and other major companies in the semiconductor supply chain. The PRC has also committed to purchase United States agricultural exports integral to the economy and general welfare of the United States, including soybeans, sorghum, and logs. And the PRC has committed to suspend or remove many retaliatory actions against the United States, including suspending tariffs on a vast swath of United States agricultural products until December 31, 2026, and extending the PRC's market-based tariff exclusion process for United States imports until November 10, 2026.

The United States, in turn, committed to, among other things, maintain the suspension of heightened reciprocal tariffs on imports of the PRC until 12:01 a.m. eastern standard time on November 10, 2026.

In my judgment, the Arrangement will help remedy non-reciprocal trade arrangements and address the United States' economic and national security concerns. The Arrangement will reduce the United States' trade deficit, boost the economy of the United States, and address the consequences of the United States' trade deficit by, among other things, ensuring that the United States has access to materials vital to national defense, the energy sector, and other aspects of the United States' economy and national security; strengthening the agricultural infrastructure of the United States; and strengthening the manufacturing and defense industrial base of the United States.

Accordingly, I have determined that it is necessary and appropriate to deal with the national emergency declared in Executive Order 14257 by implementing the Arrangement between the United States and the PRC. Therefore, I determine that it is necessary and appropriate to continue the suspension of the heightened reciprocal tariffs on imports of the PRC until 12:01 a.m. eastern standard time on November 10, 2026.

Sec. 2. Implementation. Heading 9903.01.63 and subdivision (v)(xvii)(10) of U.S. note 2 to subchapter III of chapter 99 of the Harmonized Tariff Schedule of the United States shall continue to be suspended until 12:01 a.m. eastern standard time on November 10, 2026.

Sec. 3. Monitoring and Recommendations. (a) The Secretary of the Treasury, the Secretary of Commerce, and the United States Trade Representative, in consultation with the Secretary of State and any other officials they deem appropriate, shall continue to monitor the conditions underlying the national emergency declared in Executive Order 14257, including the United States' trade deficit, the lack of reciprocity in our bilateral trade relationships, disparate tariff rates and non-tariff barriers, United States trading partners' economic policies that suppress domestic wages and consumption imports, the strength of our domestic manufacturing base, the strength of our defense industrial base, and any other relevant factors. The Secretary of the Treasury, the Secretary of Commerce, and the United States Trade Representative shall, from time to time, update me on the status of these conditions. In particular, the Secretary of the Treasury and the United States Trade Representative shall update me on the status and progress of the PRC's implementation of its commitments under the Arrangement.

(b) Should the PRC fail to implement its commitments under the Arrangement, I may modify this order as necessary to deal with the emergency declared in Executive Order 14257.

(c) The Secretary of the Treasury, the Secretary of Commerce, and the United States Trade Representative, in consultation with the Secretary of State, the Secretary of Homeland Security, the Assistant to the President for Economic Policy, the Senior Counselor for Trade and Manufacturing, and the Assistant to the President for National Security Affairs, shall continue to inform me of any circumstance that, in their opinion, might indicate the need for further action and shall continue to recommend to me additional action that, in their opinion, will more effectively deal with the emergency declared in Executive Order 14257.

Sec. 4. Delegation. Consistent with applicable law, the Secretary of the Treasury, the Secretary of Commerce, the Secretary of Homeland Security, and the United States Trade Representative are directed and authorized to take such actions, including adopting rules, regulations, or guidance, and to employ all powers granted to the President, including those granted by IEEPA, as may be necessary to implement and effectuate this order. The Secretary of the Treasury, the Secretary of Commerce, the Secretary of Homeland Security, and the United States Trade Representative, consistent with applicable law, may redelegate any of these functions within their respective department or agency. All executive departments and agencies shall take all appropriate measures within their authority to implement this order.

Sec. 5. Severability. If any provision of this order, or the application of any provision of this order to any individual or circumstance, is held to be invalid, the remainder of this order and the application of its provisions to any other individuals or circumstances shall not be affected.

Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Office of the United States Trade Representative.

THE WHITE HOUSE,

November 4, 2025.

[FR Doc. 2025-19826

Filed 11-6-25; 8:45 am]

Billing code 3290-F8-P